COMMITTEE FOR PURCHASE FROM PEOPLE WHO ARE BLIND OR SEVERELY DISABLED

Procurement List; Proposed Deletions

AGENCY: Committee for Purchase From People Who Are Blind or Severely Disabled.

ACTION: Proposed deletions from the Procurement List.

SUMMARY: The Committee is proposing to delete product(s) and service(s) from the Procurement List that were furnished by nonprofit agencies employing persons who are blind or have other severe disabilities.

DATES: Comments must be received on or before: October 9, 2022.

ADDRESSES: Committee for Purchase From People Who Are Blind or Severely Disabled, 355 E Street SW, Washington, DC 20024.

FOR FURTHER INFORMATION CONTACT: For further information or to submit comments contact: Michael R. Jurkowski, Telephone: (703) 785-6404, or email CMTEFedReg@AbilityOne.gov.

SUPPLEMENTARY INFORMATION: This notice is published pursuant to 41 U.S.C. 8503(a)(2) and 41 CFR 51-2.3. Its purpose is to provide interested persons an opportunity to submit comments on the proposed actions.

Deletions

The following product(s) and service(s) are proposed for deletion from the Procurement List:

Product(s)

NSN(s)—Product Name(s): 5330-00-599-4230—Gasket

NSN(s)—Product Name(s): 2590-00-299-0739—Valve, Poppet, Hull Drain

Designated Source of Supply: Goodwill Industries—Knoxville, Inc., Knoxville, TN

Contracting Activity: DLA LAND AND MARITIME, COLUMBUS, OH

Service(s)

Service Type: Custodial service

Mandatory for: FAA, Multiple Locations, 3491 S Roosevelt Blvd. Key West, FL

Designated Source of Supply: Mavagi Enterprises, Inc., San Antonio, TX

Contracting Activity: FEDERAL AVIATION ADMINISTRATION, 697DCK REGIONAL ACQUISITIONS SVCS

Service Type: Grounds Maintenance

Mandatory for: US Army Corps of Engineers, Bonneville Lock and Dam, Interstate 84, Exit 40 Cascade Locks, OR

Designated Source of Supply: Relay Resources, Portland, OR

Contracting Activity: DEPT OF THE ARMY, W071 ENDIST PORTLAND

Service Type: Janitorial/Custodial

Mandatory for: Veterans Outreach Center: 2001 Lincoln Way, Oak Park Mall, Null, White Oak, PA

Contracting Activity: VETERANS AFFAIRS, DEPARTMENT OF, NAC

Service Type: Catering Service

Mandatory for: Seattle Military Entrance Processing Station (MEPS), 4735 E Marginal Way South, Seattle, WA

Designated Source of Supply: Northwest Center, Seattle, WA

Contracting Activity: DEPT OF THE ARMY, W6QM MICC-FT KNOX

Michael R. Jurkowski,
Acting Director, Business Operations.

[FR Doc. 2022-19525 Filed 9-8-22; 8:45 am]

BILLING CODE 6353-01-P